DEPARTMENT OF ENERGY

National Nuclear Security Administration

229 Boundary Notice for the Pantex Plant Administrative Support Complex

AGENCY: National Nuclear Security Administration, Department of Energy (DOE).

ACTION: Notice of 229 Boundary revisions for the Pantex Plant Administrative Support Complex.

SUMMARY: Pursuant to Section 229 of the Atomic Energy Act of 1954 (as amended), notice is hereby given that the United States Department of Energy is adding to its DOE- and contractor-occupied property at the Pantex Plant in Carson County, Texas, covered by DOE's regulations, Trespassing on Department of Energy Property, in the Code of Federal Regulations. In addition to the previously identified areas of the Pantex Plant, these regulations hereby prohibit the unauthorized entry onto and the unauthorized carrying, transporting, or otherwise introducing or causing to be introduced any dangerous weapon, explosive, or other dangerous instrument or material, into or upon the following described property of the Pantex Plant of the United States Department of Energy, National Nuclear Security Administration Production Office.

DATES: This action is effective on May 9, 2018.

FOR FURTHER INFORMATION CONTACT: Larry Warner, U.S. Department of Energy, National Nuclear Security Administration, P.O. Box 30030, Amarillo, TX 79120. Email: larry.warner@npo.doe.gov. Phone: 806-573-7129.

SUPPLEMENTARY INFORMATION: The DOE, successor agency to the Atomic Energy Commission, is authorized by section 229 of the Atomic Energy Act of 1954, as amended (42 U.S.C. 2278a), and by section 301 of the Department of Energy Organization Act (42 U.S.C. 7151), to issue regulations relating to the entry upon and carrying, transporting, or otherwise introducing or causing to be introduced, any dangerous weapon, explosive, or other dangerous instrument or material likely to produce substantial injury or damage to persons or property, into or upon any facility, installation, or real property subject to the jurisdiction, administration, or custody of the DOE. To exercise this statutory authority, on August 16, 1963, the DOE first promulgated the regulations now found at 10 CFR part 860, and on September 14, 1993 (58 FR 47985), DOE revised and reissued these regulations.

The Pantex Plant is a DOE NNSA facility located in Carson County, Texas, northeast of Amarillo, Texas. By notice published on October 19, 1965 (30 FR 13287), DOE prohibited unauthorized entry into or upon the Pantex Plant by providing a property description in the Federal Register. The Pantex Plant property description was revised on July 31, 1985 (50 FR 31004) (as corrected on December 16, 1985 (50 FR 51283)), and was again revised on September 20, 1991 (56 FR 47746). By publishing this Notice, DOE hereby adds the property described below to its previously published property descriptions of the Pantex Plant, and prohibits the unauthorized entry upon and the unauthorized introduction of weapons, explosives, dangerous materials, or dangerous instruments, into and upon, the Pantex Plant. Section 860.5 of Title 10 of the Code of Federal Regulations provides that conviction for willful unauthorized entry into or upon areas enclosed by a fence, wall, floor, roof or other structural barrier can result in a fine not to exceed $100,000 or imprisonment for not more than one year, or both. Section 860.5 also provides that conviction for willful unauthorized entry into areas not enclosed by a fence, wall, floor, roof, or other such structural barrier may result in a fine of not more than $5,000. Per § 860.7, the prohibitions of §§ 860.3 and 860.4 are effective upon publication of this Notice and with posting in accordance with § 860.6.

The addition is described in further detail in the paragraphs that follow.

Property Description:

A 52.26 Acre tract of land out of the northern portion of section 30 and the south half of section 31, block M-4, J. H. Gibson Survey, Carson County, Texas, and more particularly described as follows:

Beginning at a 1/2″; Iron Rod with a yellow cap inscribed “RPLS 4263” (such type cap and rod hereafter referred to as an OJD Cap) found on the west right-of-way line of F.M. NO. 2373 same being on the north line of said south half of said Section 31 which bears S 00° 12′ 30″ E a distance of 2644.40 feet and S 89° 21′ 01″ W a distance of 58.19 feet from a Railroad Spike found at the northeast corner of said Section 31 for the northeast corner of this tract.

Thence S 00° 11′ 06″ E, along said west right-of-way line, a distance of 2626.71 feet to an OJD Cap found on said west right-of-way line for an angle corner of this tract.

Thence S 00° 05′ 06″ E, continuing along said west right-of-way line, a distance of 1018.47 feet to an OJD Cap found on said west right-of-way line for the southeast corner of this tract.

Thence S 89° 54′ 54″ W a distance of 1281.57 feet to an OJD Cap found for the southwest corner of this tract.

Thence N 00° 05′ 06″ W a distance of 1698.80 feet to an OJD Cap found for the most westerly northwest corner of this tract.

Thence N 89° 48′ 54″ E a distance of 1230.38 feet to an OJD Cap found for an angle corner of this tract.

Thence N 00° 11′ 06″ W a distance of 1893.74 feet to an OJD Cap found for an angle corner of this tract.

Thence N 45° 25′ 02″ W a distance of 70.43 feet to an OJD Cap found on said north line for the most northerly northwest corner of this tract.

Thence N 89° 21′ 01″ E a distance of 100.00 feet to the place of beginning and containing 52.26 acres of land.

This description is in addition to the descriptions contained in the Federal Register notices published on October 19, 1965, July 31, 1985 (as corrected on December 16, 1985), and September 20, 1991, and includes all buildings, structures, installations, and parcels of real property therein.

Notices stating the pertinent prohibitions of §§ 860.3 and 860.4 and the penalties of § 860.5 will be posted at any entrances of the above-referenced areas and at intervals along their perimeters where 10 CFR part 860 is to be implemented, as provided in § 860.6.

Issued in Carson County, Texas on May 1, 2018.
Arnold E. Guevara,
Assistant Manager for Safeguards and Security.

[FR Doc. 2018-09876 Filed 5-8-18; 8:45 am]

BILLING CODE 6450-01-P